DEPARTMENT OF THE TREASURY

Office of Foreign Assets Control

Removal From the List of Specially Designated Nationals and Blocked Persons of Certain Entities Listed Pursuant to Executive Order 13566

AGENCY: Office of Foreign Assets Control, Treasury.

ACTION: Notice.

SUMMARY: The Treasury Department's Office of Foreign Assets Control (“OFAC”) is removing from the list of Specially Designated Nationals and Blocked Persons (“SDN List”) the names of 42 entities that are listed pursuant to Executive Order 13566 of February 25, 2011, “Blocking Property and Prohibiting Certain Transactions Related to Libya.”

DATES: The removal from the SDN List of the 42 entities identified in this notice is effective on November 18, 2011.

FOR FURTHER INFORMATION CONTACT: Assistant Director for Sanctions Compliance & Evaluation, tel.: (202) 622-2490, Assistant Director for Licensing, tel.: (202) 622-2480, Assistant Director for Policy, tel.: (202) 622-4855, Office of Foreign Assets Control, or Chief Counsel (Foreign Assets Control), tel.: (202) 622-2410, Office of the General Counsel, Department of the Treasury (not toll free numbers).

SUPPLEMENTARY INFORMATION:

Electronic and Facsimile Availability

This document and additional information concerning OFAC are available from OFAC's Web site (http://www.treasury.gov/ofac) or via facsimile through a 24-hour fax-on-demand service, tel.: (202) 622-0077.

Background

On February 25, 2011, the President issued Executive Order 13566, “Blocking Property and Prohibiting Certain Transactions Related to Libya” (“E.O. 13566”), pursuant to, inter alia, the International Emergency Economic Powers Act (50 U.S.C. 1701-06). E.O. 13566 blocks all property and interests in property that are in the United States, that come within the United States, or that are or come within the possession or control of any United States person, including any overseas branch, of the Government of Libya, its agencies, instrumentalities, and controlled entities, and the Central Bank of Libya; the persons listed in the Annex to E.O. 13566; and any person determined by the Secretary of the Treasury, in consultation with the Secretary of State, to meet the criteria set forth in E.O. 13566.

General License No. 8A authorizes prospective transactions involving the Government of Libya, its agencies, instrumentalities, and controlled entities, and the Central Bank of Libya, as of September 19, 2011. Funds, including cash, securities, bank accounts, and investment accounts, and precious metals that were blocked pursuant to E.O. 13566 as of September 19, 2011, continue to remain blocked, except as otherwise authorized by OFAC.

Accordingly, OFAC is removing from the SDN List the names of the following 42 entities with whom prospective transactions are authorized pursuant to General License No. 8A:

1. AFRIQIYAH AIRWAYS, 1st Floor, Waha Building, 273, Omar Almokhtar Street, Ali Khalifa Zaidi Street, Tripoli, Libya; 273 Omar Al Mokhtar Street, P.O. Box 83428, Tripoli, Libya; Email Address afriqiyah@afriqiyah.aero; alt. Email Address cargo@afriqiyah.aero; Web site http://www.afriqiyah.aero; Telephone No. (218) 214442622; Telephone No. (218) 214444408; Telephone No. (218) 214444409; Telephone No. (218) 214449734; Telephone No. (218) 214449743; Fax No. (218) 213341181; Fax No. (218) 214449128; Fax No. (218) 213614102 [LIBYA2]

2. AGRICULTURAL BANK (a.k.a. AL MASRAF AL ZIRAE; a.k.a. LIBYAN AGRICULTURAL BANK), El Ghayran Area, Ganzor El Sharqya, P.O. Box 1100, Tripoli, Libya; Al Jumhouria Street, East Junzour, Al Gheran, Tripoli, Libya; Email Address agbank@agribank-ly.org; SWIFT/BIC AGRULYLT (Libya); Telephone No. (218) 214870586; Telephone No. (218) 214870714; Telephone No. (218) 214870745; Telephone No. (218) 213338366; Telephone No. (218) 213331533; Telephone No. (218) 213333541; Telephone No. (218) 213333544; Telephone No. (218) 213333543; Telephone No. (218) 213333542; Fax No. (218) 214870747; Fax No. (218) 214870767; Fax No. (218) 214870777; Fax No. (218) 213330927; Fax No. (218) 213333545 [LIBYA2]

3. AL WAFA BANK (a.k.a. MASSRAF AL WAFA), Dat El Imad Administrative Complex, Al Thawra Street, P.O. Box 84212, Tripoli, Libya; Email Address info@alwafabank.com; Telephone No. (218) 214815123; Fax No. (218) 214801247 [LIBYA2]

4. ARAB TURKISH BANK (a.k.a. A AND T BANK; a.k.a. ARAB-TURKISH BANK; a.k.a. ARAP TURK BANKASI), Valikonagi Cad. No: 10, Nisantasi 34367, Istanbul, Turkey; P.O. Box: 150, Sisli 34360, Istanbul, Turkey; Havuzlu Sok. No: 3, 06540 Asagi Ayranci, Ankara, Turkey; P.O. Box 38-06552, Canakaya, Ankara, Turkey; Derya Sol., Sisilkler Plaza, D Blok No: 14/1, Sahrayi Credit, Kadikoy, Istanbul, Turkey; Musalla Baglari Mah., Ahmet Milmi Nalcaci Cad., 1-Evkur Ishani No: 112/B-C, 42060 Selecuklu, Konya, Turkey; Cumhuriyet Mah., Vatan Cad. No: 22, 38040 Melikgazi, Kayseri, Turkey; Incilipinar Mah., Kibris Cad., Zeugma Is Merkezi, No: 13-14, 27090 Sehitkamil, Gaziantep, Turkey; Registration ID 146103 (Turkey); SWIFT/BIC ATUBTRIS (Turkey); Tel. No. (90) 2122250500; Tel. No. (90) 3124195101; Tel. No. (90) 3124195102; Tel. No. (90) 3124195103; Tel. No. (90) 3124195104; Tel. No. (90) 3124190883; Tel. No. (90) 3124190884; Tel. No. (90) 2163580800; Tel. No. (90) 2163580801; Tel. No. (90) 2163580802; Tel. No. (90) 2163580803; Tel. No. (90) 2163580805; Tel. No. (90) 2163580806; Tel. No. (90) 3322360716; Tel. No. (90) 3322360718; Tel. No. (90) 3322360719; Tel. No. (90) 3322360791; Tel. No. (90) 3322360792; Tel. No. (90) 3322360793; Tel. No. (90) 3522213933; Tel. No. (90) 3522213934; Tel. No. (90) 3522213935; Tel. No. (90) 3522213936; Tel. No. (90) 3522213980; Tel. No. (90) 3522213981; Tel. No. (90) 3422326200; Tel. No. (90) 3422326201; Tel. No. (90) 3422326202; Tel. No. (90) 3422326203; Tel. No. (90) 3422326204; Tel. No. (90) 3422326205; Fax No. (90) 2122255299; Fax No. (90) 2 [LIBYA2]

5. ARABIAN GULF OIL COMPANY (a.k.a. AGOCO), AGOCO Building, P.O. Box 263, Al Kish, Benghazi, Libya [LIBYA2]

6. AZZAWIYA OIL REFINING COMPANY (a.k.a. AZAWIYA OIL; a.k.a. AZZAWIYA OIL REFINING COMPANY INC; a.k.a. ZAWIA OIL REFINING COMPANY; a.k.a. “ARC”), Azzawiya Oil Refining Building, 45 Km West of Tripoli, Al Harsha Area, Azzawiya, Libya; Azzawiya Oil Refining Building, Al harsha Area, P.O. Box 15715, Az Zawiyah, Libya [LIBYA2]

7. BREGA PETROLEUM MARKETING COMPANY (a.k.a. BPMC; a.k.a. BREGA MARKETING COMPANY), P.O. Box 402, Tripoli, Libya; Coast Road, P.O. Box 16649, Az Zawiyah, Libya; Ben Shatwan Street, P.O. Box 1278, Benghazi, Libya [LIBYA2]

8. DALIA ADVISORY LTD, 11 Upper Brook Street, London W1K 6PB, United Kingdom [LIBYA2]

9. FIRST GULF LIBYAN BANK, The 7th of November Street, P.O. Box 81200, Tripoli, Libya; SWIFT/BIC FGLBLYLT (Libya); Telephone No. (218) 213622262; Fax No. (218) 213622205 [LIBYA2]

10. GENERAL COMPANY FOR CHEMICAL INDUSTRIES (a.k.a. ABU KAMMASH; a.k.a. GCCI), Abu Kammash Chemical Complex, Hadba Al Khadra, P.O. Box 100/411 and 100/071, Zuara, Libya; General Company for Chemical Industries Building, Abu Kammash Area, P.O. Box 411, Al Nuqat Al Khams, Zuwarah 100, Libya; Telephone No. (218) 213615181-5; Telephone No. (218) 213609426; Telephone No. (218) 213609427; Telephone No. (218) 212136081; Telephone No. (218) 213615186; Telephone No. (218) 213615181; Fax No. (218) 213609433; Fax No. (218) 213601712; Fax No. (218) 213615184; Fax No. (218) 213615014; Fax No. (218)213609433; Email Address gcci-abukamash@gcci.ly; Web site http://www.gcci.ly [LIBYA2]

11. GENERAL NATIONAL MARITIME TRANSPORT COMPANY (a.k.a. GNMTC), El Shaab Port, next to Passenger Terminal, P.O. Box 80173, Tripoli, Libya; Al Wahda Al Arabiya Building, Gargarish Road, Abou Nawas, P.O. Box 80173, Tripoli, Libya; Telephone No. (218) 214843304; Telephone No. (218) 214843273; Telephone No. (218) 214843310; Telephone No. (218) 214808094; Fax No. (218) 2134843288; Fax No. (218) 214843272; Fax No. (218) 4843305; Fax No. (218) 214808094; Email Address info@gnmtc.com; Web site http://www.gnmtc.com [LIBYA2]

12. GHANA LIBYA ARAB HOLDING COMPANY (a.k.a. GHANA LIBYAN ARAB HOLDING COMPANY LIMITED; a.k.a. GLAHCO), 1st Circular Road, Opposite Midini Hotel, Cantonments, Kumasi, Ghana; Plot F32 and 33, 5th Circular Road, East Cantonments, P.O. Box AN7281, Accra, Ghana; Telephone No. (233) 21774962; Telephone No. (233) 21762481; Telephone No. (233) 302774962; Telephone No. (233) 302762454; Telephone No. (233) 244322261; Fax No. (233) 21774839; Email Address karmus@glahco.com; Email Address glahco@glahco.com [LIBYA2]

13. GLAHCO HOTELS AND TOURISM DEVELOPMENT COMPANY LIMITED (a.k.a. GOLDEN TULIP HOTEL ACCRA), Liberation Road, Opposite Police Church, P.O. Box 16033, Accra, Ghana; Telephone No. (233) 21775360; Telephone No. (233) 21775362; Telephone No. (233) 21775366; Telephone No. (233) 21213161; Telephone No. (233) 202013326; Telephone No. (233) 21775361; Email Address Herbert.friese@goldentulipaccra.com; Web site http://www.goldentulipaccra.com [LIBYA2]

14. GUMHOURIA BANK (f.k.a. AL OUMMA BANK; a.k.a. JAMAHIRIYA BANK; f.k.a. MASRAF AL GUMHOURIA; f.k.a. UMMA BANK), Umar Al Mukhtar Street, Tripoli, Libya; Al Shohadaa Building, Mehammed El Magrif, P.O. Box 3224, Tripoli, Libya; SWIFT/BIC JAMBLYLT (Libya); Telephone No. (218) 21333553; Telephone No. (218) 21333555; Telephone No. (218) 213332888; Telephone No. (218) 214442541; Fax No. (218) 213333793; Fax No. (218) 214442476 [LIBYA2]

15. HAROUGE OIL OPERATIONS (a.k.a. HAROUGE; f.k.a. VEBA OIL LIBYA GMBH), Al Magharba Street, P.O. Box 690, Tripoli, Libya [LIBYA2]

16. JAMAHIRIYA OIL WELL FLUIDS AND EQUIPMENT (a.k.a. JOWEF OIL TECHNOLOGY; a.k.a. JOWFE; a.k.a. JOWFE CO. FOR OIL TECHNOLOGY; a.k.a. JOWFE OIL TECHNOLOGY COMPANY), Ganfouda area, 15 Km Qaminis Road, P.O. Box 9019, Benghazi, Libya; 15 Km Qaminis Road, Benghazi, Libya [LIBYA2]

17. LAFICO ALGERIA HOLDING (a.k.a. LAFICO ALGERIA), Street 19, Freres Addour, Bir Mourad Rais, Chafaa Adour, Algiers 16300, Algeria; Email Address laficoalgeria@hotmail.com; Telephone no. (213) (21) (541703); Telephone no. (213) (21) (541110); Fax no. (213) (21) (541704) [LIBYA2]

18. LIBYA AFRICA INVESTMENT PORTFOLIO (a.k.a. LAIP; a.k.a. LAP), Jumhoria Street, P.O. Box 91330, Tarabulus, Tripoli, Libya; Email Address info@lap.ly; Web site http://www.lap.ly [LIBYA2]

19. LIBYAN AFRICAN INVESTMENT COMPANY (a.k.a. LAAICO; a.k.a. LAICO; a.k.a. LIBYAN ARAB AFRICAN INVESTMENT COMPANY; a.k.a. THE LAICO GROUP), Janzoor (neighborhood), Tripoli, Libya; P.O. Box 81370, Tarabulus, Tripoli, Libya; Email Address info@laaico.com; Web site http://www.laaico.com [LIBYA2]

20. LIBYAN ARAB FOREIGN BANK LIMITED (a.k.a. LAFB; a.k.a. LIBYAN ARAB FOREIGN BANK; a.k.a. LIBYAN FOREIGN BANK), P.O. Box 2542 Tower 2, Dat Al-Imad Complex, Tripoli, Libya; Dat Elemad Administrative Complex, Tower No. 2, Tripoli, Libya; Web site www.lafbank.com; alt. Web site http://www.lfbank.ly; Telephone No. (218) 213350160; Telephone No. (218) 213350161; Telephone No. (218) 213350155; Fax No. (218) 213350164 [LIBYA2]

21. LIBYAN ARAB FOREIGN INVESTMENT COMPANY (a.k.a. LAFICO; a.k.a. LIBYAN FOREIGN INVESTMENT COMPANY), Libyan Arab Foreign Investment Company Building, Al Tharwa Street, P.O. Box 4538, Gharyan Area, Tarabulus, Tripoli, Libya; Email Address info@lafico.ly; Web site http://www.lafico.ly [LIBYA2]

22. LIBYAN INVESTMENT AUTHORITY (a.k.a. LIA; a.k.a. LIBYAN INVESTMENT CORPORATION), Office No. 99, 9th Floor, Bourj Al Fatih Tower, Tripoli, Libya; Email Address info@libyaninvestment.com; Web site http://www.lia.ly; Telephone No. (218) 213351034; Telephone No. (218) 213362091; Telephone No. (218) 213362085; Fax No. (218) 213351035; Fax No. (218) 213362082; Fax No. (218) 213362084 [LIBYA2]

23. LIBYAN JAMAHIRIYA BROADCASTING CORPORATION, POB 333, Ahsaat Street, Tripoli, Libya; Email Address info@ljbc.net; alt. Email Address info@en.ljbc.net; Web site http://www.ljbc.net; alt. Web site www.en.ljbc.net; Telephone no. (218) (21) (4445926); Fax no. (218) (21) (3402107) [LIBYA2]

24. LIBYAN NORWEGIAN FERTILISER COMPANY (a.k.a. LIFECO), Airport Highway, Sidi Sleem Area, Tripoli, Libya; Plant Libyan Norwegian Fertiliser Company, Marsa el Brega, Libya; Web site http://www.lifeco.ly [LIBYA2]

25. MEDITERRANEAN OIL SERVICES COMPANY (a.k.a. MEDITERRANEAN SEA OIL SERVICES COMPANY), Bashir El Saadawy Street, P.O. Box 2655, Tripoli, Libya [LIBYA2]

26. MEDITERRANEAN OIL SERVICES GMBH (a.k.a. MED OIL OFFICE DUSSELDORF; a.k.a. MEDOIL), Werdener Str. 8, Dusseldorf, Nordhein-Westfalen 40227, Germany [LIBYA2]

27. NATIONAL BANKING CORPORATION, Al Dhahra Area, Near Qasr Libya Hotel, P. O. Box 80930, Tripoli, Libya; SWIFT/BIC NBCLLYLT (Libya); Telephone No. (218) 214444524; Telephone No. (218) 214444870; Telephone No. (218) 21902524510; Telephone No. (218) 214444267; Fax No. (218) 213330896 [LIBYA2]

28. NATIONAL COMMERCIAL BANK (a.k.a. BANK WATANI; a.k.a. NATIONAL COMMERCIAL BANK SAL), Orouba Street, Al Baida, P.O. Box 543, Tripoli, Libya; SWIFT/BIC LNCBLYLT (Libya); Telephone No. (218) 213612267; Telephone No. (218) 213612429; Telephone No. (218) 213610306; Telephone No. (218) 213617977; Telephone No. (218) 214441168; Telephone No. (218) 214446019; Fax No. (218) 213610306; Fax No. (218) 214448878 [LIBYA2]

29. NATIONAL OIL CORPORATION (a.k.a. LIBYA NATIONAL OIL CORPORATION; a.k.a. LNOC; a.k.a. NATIONAL OIL CORPORATION—LIBYA; a.k.a. NOC), National Oil Corporation Building, Bashir Al Saadawi Street, P.O. Box 2655, Tarabulus, Tripoli, Libya [LIBYA2]

30. NATIONAL OIL FIELDS AND TERMINALS CATERING COMPANY, Airport Road Km 3, Tripoli, Libya [LIBYA2]

31. NATIONAL OIL WELLS DRILLING AND WORKOVER COMPANY (a.k.a. NATIONAL OIL WELLS CHEMICAL AND DRILLING AND WORKOVER EQUIPMENT CO.; a.k.a. NATIONAL OIL WELLS DRILLING AND WORKOVER EQUIPMENT CO.), National Oil Wells Drilling and Workover Company Building, Omar Al Mokhtar Street, P.O. Box 1106, Tripoli, Libya [LIBYA2]

32. NORTH AFRICA COMMERCIAL BANK S.A.L. (a.k.a. NACB; a.k.a. NORTH AFRICA COMMERCIAL BANK; a.k.a. NORTH AFRICA COMMERCIAL BANK SAL), P.O. Box: 11-9575, Beirut, Lebanon; Justinian St., Aresco Centre, Beirut, Lebanon; Aresco Center, Justinien Street, Kantari Sector, Beirut, Lebanon; Sin El Fil, Mkalles Round About, SAR Bldg, Beirut, Lebanon; Registration ID 30199 (Lebanon) issued 13 Oct 1973; SWIFT/BIC NACBLBBE (Lebanon); Telephone No. (961 1) 759000; Telephone No. (961 1) 485670; Telephone No. (961 1) 485671; Telephone No. (961 1) 485681; Telephone No. (961 1) 485682; Telephone No. (961 1) 485683; Telephone No. (961 1) 742900; Telephone No. (961 1) 495404; Fax No. (961 1) 346322; Fax No. (961 1) 759099; Fax No. (961 1) 751687; Fax No. (961 1) 485681; Email Address info@nacb.com.lb; Email Address nacb@sodetel.net.lb; Web site http://www.nacb.com.lb [LIBYA2]

33. NORTH AFRICA INTERNATIONAL BANK (a.k.a. NAIB; a.k.a. NAIB BANK; a.k.a. NORTH AFRICA INTERNATIONAL BANK SA), Avenue Kheireddine Pacha, Lotissement Ennasim Montplaisir (Bourjel), 1002, Tunis, Tunisia; Avenue Kheireddine Pacha, Cite Ennasim Montplaisir, 1002, Tunis, Tunisia; P.O. Box 485, 1080, Tunis Cedex, Tunisia; Bizerte Centre, 7000, Bizerte, Tunisia; Ennasim Mont Plaisir Building, Kheireddine Pacha Street, Taksim Al Nassim, 1002, Tunis, Tunisia; Boulevard 7 Novembre, Route El Kantaoui, 4011, Hammam Sousse, Tunisia; Immeuble Mirage II, Avenue Magida Boulila, Near the Medicine Institute, 3027, Sfax El Jadida, Tunisia; Registration ID B 1101511997 (Tunisia) issued 1 Nov 1984; SWIFT/BIC NOAFTNTT (Tunisia); Telephone No. (216) 71950800; Telephone No. (216) 72422100; Telephone No. (216) 73370370; Fax No. (216) 71950840; Fax No. (216) 71950254; Fax No. (216) 72422533; Fax No. (216) 73370371; Email Address naib@naibank.com; Web site http://www.naib.com [LIBYA2]

34. NORTH AFRICAN GEOPHYSICAL EXPLORATION COMPANY (a.k.a. NAGECO; a.k.a. NORTH AFRICAN GEOPHYSICAL EXPLORATION), Airport Road, Ben Ghasir 6.7 KM, Tripoli, Libya [LIBYA2]

35. PAK-LIBYA HOLDING COMPANY, Finance and Trade Centre, 5th Floor, Block C, Shahrah-E-Faisal, Karachi 74400, Pakistan; Telephone No. 9221565155662; Telephone No. 92215651648; Telephone No. 92215651556; Telephone No. 92215651557; Telephone No. 92215651558; Telephone No. 92215651559; Email Address info@paklibya.com.pk; Web site http://www.paklibya.com.pk [LIBYA2]

36. RAS LANUF OIL AND GAS PROCESSING COMPANY (a.k.a. RASCO; a.k.a. RASLANUF OIL AND GAS REFINARY OIL COMPANY), Ras Lanuf Oil and Gas Processing Company Building, P.O. Box 2323, Ras Lanuf City, Libya; P.O. Box 2323, GSPLAJ, Tripoli, Libya; P.O. Box 1971, GSPLAJ, Benghazi, Libya [LIBYA2]

37. SAHARA BANK, 1st of September Street No. 10, P.O. Box 270, Tripoli, Libya; SWIFT/BIC SABKLYLT (Libya); Telephone No. (218) 214448066; Telephone No. (218) 213330724; Telephone No. (218) 213339390; Telephone No. (218) 214443061; Fax No. (218) 213337922; Fax No. (218) 213330068 [LIBYA2]

38. SAVINGS AND REAL ESTATE INVESTMENT BANK (a.k.a. EDDEKHAR BANK), Al Sreem Street—Abu Miliana Street, Al Masera Al Kobra Street, P.O. Box 2289, Tripoli, Libya; Khalifa Alzaidi Street, P.O. Box 2289, Tripoli, Libya; Email Address edara@eddekharbank.com; Telephone No. (218) 214449306; Telephone No. (218) 214449308; Telephone No. (218) 214449310; Telephone No. (218) 213330434; Telephone No. (218) 213330561; Telephone No. (218) 213331746; Telephone No. (218) 213344631; Telephone No. (218) 213344632; Telephone No. (218) 213344633; Telephone No. (218) 213344634; Fax No. (218) 214449309 [LIBYA2]

39. SIRTE OIL COMPANY FOR PRODUCTION MANUFACTURING OF OIL AND GAS (a.k.a. SIRTE OIL COMPANY; a.k.a. SIRTE OIL COMPANY (SOC) FOR PRODUCTION MANUFACTURING OF SIRTE OIL COMPANY; a.k.a. SIRTE OIL COMPANY FOR PRODUCTION AND MANUFACTURING OF OIL AND GAS LTD; a.k.a. SOC), Sirte Oil Company Building, Marsa Al Brega Area, P.O. Box 385, Tripoli, Libya [LIBYA2]

40. THE ECONOMIC AND SOCIAL DEVELOPMENT FUND COMPANY (a.k.a. ECONOMIC SOCIAL AND DEVELOPMENT FUND; a.k.a. SOCIAL AND ECONOMIC DEVELOPMENT FUND; a.k.a. “ESDF”), ESDF Building, Qaser Bin Ghasher Road, Salaheddine Cross, Tripoli, Libya; Email Address info@esdf.ly; Web site http://www.esdf.ly; Telephone No. (218) 214908893; Fax No. (218) 214918893; Fax No. (218) 214918894 [LIBYA2]

41. WAHA OIL COMPANY (a.k.a. OASIS OIL COMPANY; a.k.a. WAHA), Waha Oil Company Building, Airport Road, Al Akwakh Street, P.O. Box 395, Tripoli, Libya [LIBYA2]

42. ZUEITINA OIL COMPANY (a.k.a. ZOC; a.k.a. ZUEITINA), Zueitina Oil Building, Sidi Issa Street, Al Dahra Area, P.O. Box 2134, Tripoli, Libya [LIBYA2]

Dated: November 18, 2011.
Adam J. Szubin,
Director, Office of Foreign Assets Control.

[FR Doc. 2011-30293 Filed 11-22-11; 8:45 am]

BILLING CODE 4810-AL-P